DEPARTMENT OF ENERGY

Federal Energy Regulatory Commission

Combined Notice of Filings

Take notice that the Commission has received the following Natural Gas Pipeline Rate and Refund Report filings:

Filings Instituting Proceedings

Docket Numbers: RP21-1127-000.

Applicants: Tuscarora Gas Transmission Company.

Description: Compliance filing: TXP Compliance Filing to be effective 11/1/2021.

Filed Date: 9/20/21.

Accession Number: 20210920-5084.

Comment Date: 5 p.m. ET 10/4/21.

Docket Numbers: RP21-1128-000.

Applicants: Tuscarora Gas Transmission Company.

Description: Compliance filing: 2021 Fuel and Line Loss Report to be effective N/A.

Filed Date: 9/20/21.

Accession Number: 20210920-5095.

Comment Date: 5 p.m. ET 10/4/21.

Docket Numbers: RP21-1129-000.

Applicants: ANR Pipeline Company.

Description: § 4(d) Rate Filing: ANR Best Bid Evaluation Tariff Change to be effective 10/20/2021.

Filed Date: 9/20/21.

Accession Number: 20210920-5120.

Comment Date: 5 p.m. ET 10/4/21.

Docket Numbers: RP21-1130-000.

Applicants: Iroquois Gas Transmission System, L.P.

Description: § 4(d) Rate Filing: 9.21.21 Negotiated Rates—Citadel Energy Marketing LLC R-7705-05 to be effective 11/1/2021.

Filed Date: 9/21/21.

Accession Number: 20210921-5005.

Comment Date: 5 p.m. ET 10/4/21.

Docket Numbers: RP21-1131-000.

Applicants: Iroquois Gas Transmission System, L.P.

Description: § 4(d) Rate Filing: 9.21.21 Negotiated Rates—Citadel Energy Marketing LLC R-7705-06 to be effective 11/1/2021.

Filed Date: 9/21/21.

Accession Number: 20210921-5006.

Comment Date: 5 p.m. ET 10/4/21.

Docket Numbers: RP21-1132-000.

Applicants: Iroquois Gas Transmission System, L.P.

Description: § 4(d) Rate Filing: 9.21.21 Negotiated Rates—Twin Eagle Resource Management, LLC R-7300-22 to be effective 11/1/2021.

Filed Date: 9/21/21.

Accession Number: 20210921-5009.

Comment Date: 5 p.m. ET 10/4/21.

Docket Numbers: RP21-1133-000.

Applicants: Iroquois Gas Transmission System, L.P.

Description: § 4(d) Rate Filing: 9.21.21 Negotiated Rates—Twin Eagle Resource Management, LLC R-7300-23 to be effective 11/1/2021.

Filed Date: 9/21/21.

Accession Number: 20210921-5011.

Comment Date: 5 p.m. ET 10/4/21.

Docket Numbers: RP21-1134-000.

Applicants: Iroquois Gas Transmission System, L.P.

Description: § 4(d) Rate Filing: 9.21.21 Negotiated Rates—Twin Eagle Resource Management, LLC R-7300-24 to be effective 11/1/2021.

Filed Date: 9/21/21.

Accession Number: 20210921-5012.

Comment Date: 5 p.m. ET 10/4/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2021.
Debbie-Anne A. Reese,
Deputy Secretary.

[FR Doc. 2021-20895 Filed 9-24-21; 8:45 am]

BILLING CODE 6717-01-P